DEPARTMENT OF COMMERCE

National Oceanic and Atmospheric Administration

50 CFR Part 679

[Docket No. 180831813-9170-02; RTID 0648-XY058]

Fisheries of the Exclusive Economic Zone Off Alaska; Inseason Adjustment to the 2020 Gulf of Alaska Pollock and Pacific Cod Total Allowable Catch Amounts

AGENCY: National Marine Fisheries Service (NMFS), National Oceanic and Atmospheric Administration (NOAA), Commerce.

ACTION: Temporary rule; inseason adjustment; request for comments.

SUMMARY: NMFS is adjusting the 2020 total allowable catch (TAC) amounts for the Gulf of Alaska (GOA) pollock and Pacific cod fishery. This action is necessary because NMFS has determined these TACs are incorrectly specified, and will ensure the GOA pollock and Pacific cod TACs are the appropriate amount based on the best available scientific information for pollock and Pacific cod in the GOA. This action is consistent with the goals and objectives of the Fishery Management Plan for Groundfish of the Gulf of Alaska.

DATES: Effective 0001 hours, Alaska local time (A.l.t.), January 1, 2020, until the effective date of the final 2020 and 2021 harvest specifications for GOA groundfish, unless otherwise modified or superseded through publication of a notification in the Federal Register.

Comments must be received at the following address no later than 4:30 p.m., A.l.t., January 7, 2020.

ADDRESSES: Submit your comments, identified by NOAA-NMFS-2018-0103 by any of the following methods:

• Federal e-Rulemaking Portal: Go to www.regulations.gov/#!docketDetail;D=NOAA-NMFS-2018-0103, click the “Comment Now!” icon, complete the required fields, and enter or attach your comments.

• Mail: Submit written comments to Glenn Merrill, Assistant Regional Administrator, Sustainable Fisheries Division, Alaska Region NMFS, Attn: Records. Mail comments to P.O. Box 21668, Juneau, AK 99802-1668.

Instructions: NMFS may not consider comments if they are sent by any other method, to any other address or individual, or received after the comment period ends. All comments received are a part of the public record, and NMFS will post the comments for public viewing on www.regulations.gov without change. All personal identifying information (e.g., name, address), confidential business information, or otherwise sensitive information submitted voluntarily by the sender will be publicly accessible. NMFS will accept anonymous comments (enter “N/A” in the required fields if you wish to remain anonymous).

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council (Council) under authority of the Magnuson-Stevens Fishery Conservation and Management Act. Regulations governing fishing by U.S. vessels in accordance with the FMP appear at subpart H of 50 CFR part 600 and 50 CFR part 679.

The final 2019 and 2020 harvest specifications for groundfish in the GOA (84 FR 9416, March 14, 2019) set the 2020 pollock TAC at 114,943 metric tons (mt) in the GOA. In December 2019, the North Pacific Fishery Management Council (Council) recommended a 2020 pollock TAC of 115,930 mt for the GOA, which is more than the 114,943 mt established by the final 2019 and 2020 harvest specifications for groundfish in the GOA. The Council's recommended 2020 TAC, and the area and seasonal apportionments, is based on the Stock Assessment and Fishery Evaluation report (SAFE), dated November 2019.

The final 2019 and 2020 harvest specifications for groundfish in the GOA (84 FR 9416, March 14, 2019) set the 2020 Pacific cod TAC at 15,709 metric tons (mt) in the GOA. In December 2019, the North Pacific Fishery Management Council (Council) recommended a 2020 Pacific cod TAC of 6,431 mt for the GOA, which is less than the 15,709 mt established by the final 2019 and 2020 harvest specifications for groundfish in the GOA. The Council's recommended 2020 TAC, and the area and seasonal apportionments, is based on the Stock Assessment and Fishery Evaluation report (SAFE), dated November 2019.

Steller sea lions occur in the same location as the pollock and Pacific cod fisheries and are listed as endangered under the Endangered Species Act (ESA). Pollock and Pacific cod are principal prey species for Steller sea lions in the GOA. The seasonal apportionment of pollock and Pacific cod harvests are necessary to ensure the groundfish fisheries are not likely to cause jeopardy of extinction or adverse modification of critical habitat for Steller sea lions. The regulations at § 679.20(a)(5)(iv) specify how the pollock TAC will be apportioned and the regulations at § 679.20(a)(6)(ii) and (a)(12)(i) specify how the Pacific cod TAC will be apportioned.

In accordance with § 679.25(a)(1)(iii), (a)(2)(i)(B), and (a)(2)(iv) the Administrator, Alaska Region, NMFS (Regional Administrator), has determined that, based on the best available scientific information for this fishery, the current GOA pollock and Pacific cod TACs are incorrectly specified. Consequently, pursuant to § 679.25(a)(1)(iii), the Regional Administrator is adjusting the 2020 GOA pollock TAC to 115,930 mt and the 2020 Pacific cod TAC to 6,431 mt. Therefore, Tables 4 and 6 of the final 2019 and 2020 harvest specifications for groundfish in the GOA (84 FR 9416, March 14, 2019) are revised consistent with this adjustment.

Pursuant to § 679.20(a)(5)(iv), Table 4 of the final 2019 and 2020 harvest specifications for groundfish in the GOA (84 FR 9416, March 14, 2019) is revised for the 2020 TACs of pollock in the Central and Western Regulatory Area of the GOA.

Table 4—Final 2020 Distribution of Pollock in the Western and Central Regulatory Areas of the GOA; Seasonal Biomass Distribution, Area Apportionments; and Seasonal Allowances of Annual TAC
Season ¹ | Shumagin (area 610) |  | Chirikof (area 620) |  | Kodiak (area 630) |  | Total ²
A (Jan 20-Mar 10) | 517 | 2.06% | 18,757 | 74.86% | 5,783 | 23.08% | 25,057
B (Mar 10-May 31) | 517 | 2.06% | 22,222 | 88.68% | 2,318 | 9.25% | 25,057
C (Aug 25-Oct 1) | 9,070 | 36.20% | 6,739 | 26.89% | 9,248 | 36.91% | 25,057
D (Oct 1-Nov 1) | 9,070 | 36.20% | 6,739 | 26.89% | 9,248 | 36.91% | 25,057
Annual Total | 19,175 |  | 54,456 |  | 26,597 |  | 100,228
¹ As established by § 679.23(d)(2)(i) through (iv), the A, B, C, and D season allowances are available from January 20 to March 10, March 10 to May 31, August 25 to October 1, and October 1 to November 1, respectively. The amounts of pollock for processing by the inshore and offshore components are not shown in this table.
² The WYK and SEO District pollock TACs are not allocated by season and are not included in the total pollock TACs shown in this table.
Note: Seasonal apportionments may not total precisely due to rounding. Values are rounded to the nearest metric ton and percentages are rounded to the nearest 0.01.

Pursuant to § 679.20(a)(6)(ii) and (a)(12)(i), Table 6 of the final 2019 and 2020 harvest specifications for groundfish in the GOA (84 FR 9416, March 14, 2019) is revised for the 2020 TACs of Pacific cod in the GOA.

Table 6—Final 2020 Seasonal Apportionments and Allocation of Pacific Cod Total Allowable Catch (TAC) Amounts in the GOA; Allocations in the Western GOA and Central GOA Sectors, and the Eastern GOA Inshore and Offshore Processing Components
Regulatory area and sector | Annual allocation (mt) | A Season: Sector percentage of annual non-jig TAC | A Season: Seasonal allowances (mt) | B Season: Sector percentage of annual non-jig TAC | B Season: Seasonal allowances (mt)
Western GOA:
Jig (2.5% of TAC) | 52 | N/A | 31 | N/A | 21
Hook-and-line CV | 28 | 0.70 | 14 | 0.70 | 14
Hook-and-line C/P | 401 | 10.90 | 221 | 8.90 | 180
Trawl CV | 777 | 27.70 | 561 | 10.70 | 217
Trawl C/P | 49 | 0.90 | 18 | 1.50 | 30
All Pot CV and Pot C/P | 769 | 19.80 | 401 | 18.20 | 368
Total | 2,076 | 60.00 | 1,246 | 40.00 | 830
Central GOA:
Jig (1.0% of TAC) | 38 | N/A | 23 | N/A | 15
Hook-and-line <50 CV | 550 | 9.32 | 351 | 5.29 | 199
Hook-and-line ≥50 CV | 253 | 5.61 | 211 | 1.10 | 41
Hook-and-line C/P | 192 | 4.11 | 155 | 1.00 | 38
Trawl CV ¹ | 1,567 | 21.14 | 796 | 20.45 | 771
Trawl C/P | 158 | 2.00 | 75 | 2.19 | 83
All Pot CV and Pot C/P | 1,048 | 17.83 | 672 | 9.97 | 376
Total | 3,806 | 60.00 | 2,284 | 40.00 | 1,522
Eastern GOA: | Inshore (90% of Annual TAC) |  | Offshore (10% of Annual TAC)
| 549 | 494 |  | 55
¹ Trawl catcher vessels participating in Rockfish Program cooperatives receive 3.81 percent, or 145 mt, of the annual Central GOA TAC (see Table 28c to 50 CFR part 679), which is deducted from the Trawl CV B season allowance (see Table 12. Final 2020 Apportionments of Rockfish Secondary Species in the Central GOA and Table 28c to 50 CFR part 679).
Note: Values are rounded to the nearest metric ton.

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would allow for harvests that exceed the appropriate allocation for pollock and Pacific cod based on the best scientific information available. NMFS was unable to publish a notice providing time for public comment because the most recent, relevant data only became available as of December 9, 2019, and additional time for prior public comment would result in conservation concerns for the ESA-listed Steller sea lions.

The AA also finds good cause to waive the 30-day delay in the effective date of this action under 5 U.S.C. 553(d)(3). This finding is based upon the reasons provided above for waiver of prior notice and opportunity for public comment.

Under § 679.25(c)(2), interested persons are invited to submit written comments on this action to the above address until January 7, 2020.

This action is required by §§ 679.20 and 679.25 and is exempt from review under Executive Order 12866.

Authority: 16 U.S.C. 1801 et seq.

Dated: December 17, 2019.
Jennifer M. Wallace,
Acting Director, Office of Sustainable Fisheries, National Marine Fisheries Service.

[FR Doc. 2019-27539 Filed 12-20-19; 8:45 am]

BILLING CODE 3510-22-P